NUCLEAR REGULATORY COMMISSION

[Docket No. NRC-2014-0013]

Agency Information Collection Activities: Proposed Collection; Comment Request

AGENCY: Nuclear Regulatory Commission.

ACTION: Notice of pending NRC action to submit an information collection request to the Office of Management and Budget (OMB) and solicitation of public comment.

SUMMARY: The U. S. Nuclear Regulatory Commission (NRC) invites public comment about our intention to request the OMB's approval for a new information collection that is summarized below. We are required to publish this notice in the Federal Register under the provisions of the Paperwork Reduction Act of 1995 (44 U.S.C. Chapter 35).

Information pertaining to the requirement to be submitted:

1. The title of the information collection: Evaluation of Outreach Efforts Related to the NRC's Safety Culture Policy Statement.

2. Current OMB approval number: 3150-XXXX.

3. How often the collection is required: One time.

4. Who is required or asked to report: Respondents asked to voluntarily participate in this information collection activity will include licensees of the NRC's Office of Federal and State Materials and Environment Management Programs, fuel cycle, transportation and storage, and greater than critical mass licensees overseen by the NRC's Office of Nuclear Materials Safety and Safeguards, and materials licensees of the following Agreement States that have expressed interest in participating: Illinois, Minnesota, North Carolina, Ohio, Rhode Island, Virginia, Washington, and Wisconsin.

5. The number of annual respondents: 6,158 licensees of the NRC and participating Agreement States will be invited to participate in this one-time, voluntary information collection activity. The staff anticipates a response rate of 50 percent; therefore, the expected number of respondents is 3,079. Because the survey will only be administered once during the three year clearance period, the annualized number of respondents is 1,026.3 respondents.

6. The number of hours needed annually to complete the requirement or request: The survey is estimated to take no more than 20 minutes (0.33 hours) per respondent. The total annualized burden is estimated to be 338.7 hours.

7. Abstract: In June 2011, the NRC issued its Safety Culture Policy Statement, which describes the Commission's expectation that the NRC's regulated community maintain a positive safety culture. The NRC continues to seek ways to engage with stakeholders, licensees, members of the public, and the international community to provide outreach and education on the Safety Culture Policy Statement. The purpose of the current information collection activity is to gather feedback on whether NRC's outreach and communication activities have been effective in promoting awareness of the Safety Culture Policy Statement, and to determine if changes to current activities and/or new activities are necessary and appropriate. To support this evaluation, the NRC staff plans to conduct a voluntary survey of its materials regulated community, specifically materials users, organizations involved in the fuel cycle, and storage and transportation of nuclear materials. The NRC staff has also invited Agreement States (i.e., States that have signed formal agreements with the NRC to assume regulatory responsibility over certain byproduct and source nuclear materials, as well as small quantities of special nuclear materials) to participate by voluntarily administering the survey to materials users they regulate, and eight states have agreed to participate. The NRC has determined that a standardized voluntary survey is the most practical means of gathering feedback on its outreach and communications regarding the Safety Culture Policy Statement. Using a survey approach for the evaluation allows for input to be solicited from a wide range of licensees in an efficient and consistent manner.

Submit, by March 28, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly disclosed. Comments submitted should reference Docket No. NRC-2014-0013. You may submit your comments by any of the following methods: Electronic comments: http://www.regulations.gov and search for Docket No. NRC-2014-0013. Mail comments to the Acting NRC Clearance Officer, Kristen Benney (T-5 F50), U.S. Nuclear Regulatory Commission, Washington, DC 20555-0001. Questions about the information collection requirements may be directed to the Acting NRC Clearance Officer, Kristen Benney (T-5 F50), U.S. Nuclear Regulatory Commission, Washington, DC 20555-0001, by telephone at 301-415-6355, or by email to INFOCOLLECTS.Resource@NRC.GOV.

Dated at Rockville, Maryland, this 17th day of January, 2014.
For the Nuclear Regulatory Commission.
Brenda Miles,
Acting NRC Clearance Officer, Office of Information Services.

[FR Doc. 2014-01486 Filed 1-24-14; 8:45 am]

BILLING CODE 7590-01-P